NUCLEAR REGULATORY COMMISSION

Advisory Committee on the Medical Uses of Isotopes: Meeting Notice

AGENCY: U.S. Nuclear Regulatory Commission.

ACTION: Notice of Meeting.

SUMMARY: The U.S. Nuclear Regulatory Commission (NRC) will convene a teleconference meeting of the Advisory Committee on the Medical Uses of Isotopes (ACMUI) on April 30, 2020, to discuss the draft recommendations of the ACMUI COVID-19 Subcommittee. The ACMUI subcommittee's recommendations will include its review of the impact of COVID-19 on the medical use community and potential regulatory relief measures as it relates to the medical uses of radioactive material. Meeting information, including a copy of the agenda and handouts, will be available at https://www.nrc.gov/reading-rm/doc-collections/acmui/meetings/2020.html. The agenda and handouts may also be obtained by contacting Ms. Kellee Jamerson using the information below.

DATES: The teleconference meeting will be held on Thursday, April 30, 2020, 2:00 p.m. to 4:00 p.m. Eastern Time.

Public Participation: Any member of the public who wishes to participate in the teleconference should contact Ms. Jamerson using the contact information below.

FOR FURTHER INFORMATION CONTACT: Kellee Jamerson, (301) 415-7408; email: Kellee.Jamerson@nrc.gov.

SUPPLEMENTARY INFORMATION:

Conduct of the Meeting

Dr. Robert Schleipman, ACMUI Vice Chairman, will preside over the meeting. Dr. Schleipman will conduct the meeting in a manner that will facilitate the orderly conduct of business. The following procedures apply to public participation in the meeting:

1. Persons who wish to provide a written statement should submit an electronic copy to

Ms. Jamerson at the contact information listed above. All written statements must be received by April 27, 2020, three business days prior to the meeting, and must pertain to the topic on the agenda for the meeting.

2. Questions and comments from members of the public will be permitted during the meeting at the discretion of the ACMUI Vice Chairman.

3. The draft transcript and meeting summary will be available on ACMUI's website https://www.nrc.gov/reading-rm/doc-collections/acmui/meetings/2020.html on or about June 15, 2020.

This meeting will be held in accordance with the Atomic Energy Act of 1954, as amended (primarily Section 161a); the Federal Advisory Committee Act (5 U.S.C. App); and the Commission's regulations in 10 CFR part 7.

This meeting is being noticed in the Federal Register less than 15 calendar days due to the immediate need to receive recommendations from the ACMUI to develop and provide guidance to medical use licensees during the COVID-19 pandemic.

Dated: April 10, 2020.
Russell E. Chazell,
Advisory Committee Management Officer.

[FR Doc. 2020-07970 Filed 4-15-20; 8:45 am]

BILLING CODE 7590-01-P